DEPARTMENT OF DEFENSE

Office of the Secretary

Defense Advisory Committee on Military Personnel Testing; Notice of Federal Advisory Committee Meeting

AGENCY: Under Secretary of Defense for Personnel and Readiness, Defense Advisory Committee on Military Personnel Testing, Department of Defense.

ACTION: Notice of federal advisory committee meeting.

SUMMARY: The Department of Defense (DoD) is publishing this notice to announce that the following Federal Advisory Committee meeting of the Defense Advisory Committee on Military Personnel Testing will take place.

DATES: Day 1—Open to the public Thursday March 28, 2019 from 9:00 a.m. to 4:15 p.m. Day 2—Open to the public Friday March 29, 2019 from 9:00 a.m. to 1:00 p.m.

ADDRESSES: The Pine Inn, Ocean Avenue, between Lincoln and Monte Verde Street, Carmel-By-The-Sea, California 93923.

FOR FURTHER INFORMATION CONTACT: Sofiya Velgach, (703) 697-9271 (Voice), (703) 614-9272 (Facsimile), sofiya.velgach.civ@mail.mil (Email). Mailing address is Assistant Director, Accession Policy, Office of the Under Secretary of Defense for Personnel and Readiness, Room 3D1066, The Pentagon, Washington, DC 20301-4000.

SUPPLEMENTARY INFORMATION: This meeting is being held under the provisions of the Federal Advisory Committee Act (FACA) of 1972 (5 U.S.C., Appendix, as amended), the Government in the Sunshine Act of 1976 (5 U.S.C. 552b, as amended), and 41 CFR 102-3.140 and 102-3.150.

Agenda: The agenda includes an overview of current enlistment test development timelines, test development strategies, and planned research for the next 3 years. Committee's Point of Contact: Dr. Sofiya Velgach, Assistant Director, Enlistment Testing Standards, Accession Policy, Office of the Under Secretary of Defense for Personnel and Readiness, Room 3D1066, The Pentagon, Washington, DC 20301-4000, telephone (703) 697-9271.

Purpose of the Meeting: The purpose of the meeting is to review planned changes and progress in developing computerized tests for military enlistment screening.

Agenda: March 28, 2019 0900-0915 Welcome and Opening Remarks Dr. Sofiya Velgach, OASD(M&RA)AP* 0915-0945 Accession Policy Update Chris Arendt, Deputy Director, AP 0945-1030 CEP Update Dr. Shannon Salyer DPAC/OPA 1030-1045 Break 1045-1115 Milestones and Project Schedules Dr. Mary Pommerich DPAC/OPA 1115-1200 ASVAB Evaluation Plan Dr. Mary Pommerich, DPAC/OPA 1200-1230 CAT-ASVAB New Forms Update Dr. Matt Trippe, HumRRO 1230-1330 Lunch—“Dining Room” 1330-1415 Mental Counters—Rapid Guessing Behavior Dr. Ping Yin HumRRO 1415-1500 Mental Counters Think Aloud Plan Dr. Ping Yin HumRRO 1500-1515 Break 1515-1600 CAT-Cyber Test Dr. Furong Gao HumRRO 1600-1615 Public Comments 1615-1730 Executive Session Dr. Michael Rodriguez, Chair March 29, 2019 0900-0930 Adverse Impact for Special Tests Dr. Greg Manley DPAC/OPA 0930-1015 Device Evaluation Dr. Tia Fechter, DPAC/OPA 1015-1045 AVID Initial Evaluation Dr. Kristina Kirkendall ARI 1045-1100 Break 1100-1145 ASVAB Time Limits Dr. Furong Gao HumRRO 1145-1215 TAPAS Review Update Dr. Tim McGonigle HumRRO 1215-1230 Future Topics Dr. Dan Segall DPAC/OPA 1230-1245 Public Comments 1245-1300 Closing Comments Dr. Michael Rodriguez, Chair.

Abbreviations Key

ARI = Army Research Institute

ASVAB = Armed Services Vocational Aptitude Battery

AVID = Adaptive Vocational Interest Diagnostic

CAT = Computerized Adaptive Testing

CEP = Career Exploration Program, provided free to high schools nation-wide to help students develop career exploration skills and used by recruiters identify potential applicants for enlistment

DPAC/OPA = Defense Personnel Assessment Center/Office of People Analytics

HumRRO = Human Resources Research Organization

JAMRS = Joint Advertising Market Research & Studies

OASD(M&RA)/AP = Office of the Assistant Secretary of Defense (Manpower & Reserve Affairs)/Accession Policy

TAPAS = Tailored Adaptive Personality Assessment System

Meeting Accessibility: Public's Accessibility to the Meeting: Pursuant to title 5, U.S.C., section 552b and title 41, Code of Federal Regulations, sections 102-3.140 through 102-3.165, and the availability of space, this meeting is open to the public. Seating is based on first-come, first-served basis. All members of the public who wish to attend the public meeting must contact the Designated Federal Officer, not later than 12:00 p.m. on Monday, March 11, 2019, as listed in the FOR FURTHER INFORMATION CONTACT section.

Committee's Point of Contact: Dr. Sofiya Velgach, Assistant Director, Enlistment Testing Standards, Accession Policy, Office of the Under Secretary of Defense for Personnel and Readiness, Room 3D1066, The Pentagon, Washington, DC 20301-4000, telephone (703) 697-9271.

Written Statements: Pursuant to 41 CFR 102-3.105(j) and 102-3.140 and section 10(a)(3) of the FACA, interested persons may submit written statements to the Committee at any time about its approved agenda or at any time on the Committee's mission. Written statements should be submitted to the Committee's Designated Federal Officer at the address or facsimile number listed in the FOR FURTHER INFORMATION CONTACT section. If statements pertain to a specific topic being discussed at the planned meeting, then these statements must be submitted no later than five (5) business days prior to the meeting in question. Written statements received after this date may not be provided to or considered by the Committee until its next meeting. The Designated Federal Officer will review all timely submitted written statements and provide copies to all the committee members before the meeting that is the subject of this notice. Please note that since the Committee operates under the provisions of the FACA, all submitted comments and public presentations will be treated as public documents and will be made available for public inspection. Opportunity for public comments will be provided at the end of the meeting. Public comments will be limited to 5 minutes per person, as time allows.

Dated: February 14, 2019.
Shelly E. Finke,
Alternate OSD Federal Register Liaison Officer, Department of Defense.

[FR Doc. 2019-02820 Filed 2-19-19; 8:45 am]

BILLING CODE 5001-06-P